DEPARTMENT OF THE INTERIOR

Bureau of Land Management

[19X.LLAK930100 L510100000.ER0000]

Notice of Availability of the Willow Master Development Plan Draft Environmental Impact Statement, Alaska

AGENCY: Bureau of Land Management, Interior.

ACTION: Notice of availability.

SUMMARY: In accordance with the National Environmental Policy Act of 1969, as amended, and the Federal Land Policy and Management Act of 1976, as amended, the Bureau of Land Management (BLM) has prepared a Draft Environmental Impact Statement (EIS) for the Willow Master Development Plan (MDP) and by this notice is announcing the opening of the comment period. The BLM is also announcing that it will be holding public meetings on the Willow MDP Draft EIS and a subsistence-related hearing to receive comments on the Willow MDP Draft EIS and the proposed project's potential to impact subsistence resources and activities.

DATES: To ensure that comments will be considered, the BLM must receive written comments on the Willow MDP Draft EIS within 45 days following the date the Environmental Protection Agency publishes its Notice of Availability of the Draft EIS in the Federal Register. The BLM will hold public meetings in: Anaktuvuk Pass, Anchorage, Atqasuk, Fairbanks, Nuiqsut, Utqiagvik, Alaska. The dates, times, and locations of the meetings will be announced at least 15 days in advance through public notices, media releases, and mailings.

ADDRESSES: You may submit comments related to the Willow MDP Draft EIS by any of the following methods:

• Website: http://www.blm.gov/alaska/WillowEIS.

• Email: BLM_AK_Willow_Comments@blm.gov.

• Mail: Willow DEIS Comments, BLM Alaska State Office, 222 W 7th Avenue #13, Anchorage, AK 99513.

• Hand Deliver comments to: BLM Alaska State Office, 222 W 7th Ave. #13, Anchorage, Alaska 99513.

FOR FURTHER INFORMATION CONTACT: Racheal Jones, Willow EIS Project Manager, telephone: 907-290-0307; address: 222 West 7th Avenue, #13, Anchorage, Alaska 99513. You may also request to be added to the mailing list for the EIS. Documents pertaining to the Draft EIS may be examined at http://www.blm.gov/alaska/WillowEIS or at the BLM Alaska State Office, BLM Alaska Public Information Center (Public Room), 222 West 7th Avenue (First Floor), Anchorage, Alaska or the Arctic District Office, 222 University Avenue, Fairbanks, Alaska.

Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Bureau of Land Management prepared the Willow MDP Draft EIS in response to a letter submitted by ConocoPhillips on May 10, 2018. ConocoPhillips requested the development of the Willow prospect through a MDP EIS. The letter, available on the project website, includes a description of the foreseeable infrastructure and activity associated with the proposed Willow prospect development. Analyzing the entire proposed Willow development in a single MDP EIS allows the BLM to make determinations of National Environmental Policy Act (NEPA) adequacy when individual applications for permits to drill or rights-of-way are submitted. The MDP includes up to five drill sites, a central processing facility, an operations center pad, up to 38.2 miles of gravel roads, up to 924.2 miles of ice roads during construction and up to 215.6 total miles of resupply ice roads during operations, 1 to 2 airstrips, up to 337 miles of pipelines, and a gravel mine site. In addition, the Proponent would submit applications to the State of Alaska for a module transfer island on State submerged lands to support module delivery via sealift barges.

Actions on both state and federal lands are considered in the Draft EIS. The Willow MDP would have a peak production of up to 130,000 barrels of oil per day over its 30-year life (producing approximately 590 million barrels of oil) and would help offset declines in production from the North Slope oil fields and contribute to the local, state, and national economies.

The purpose of the public comment period is to inform the public of the availability of the Willow MDP Draft EIS and solicit comments from the public. Information received during the public comment period will be used to develop the Final EIS. Before including your address, phone number, email address, or other personal identifying information, be advised that your entire comment, including your identifying information, may be made publicly available at any time. While you may ask us in your comments to withhold your personal identifying information from public review, we cannot guarantee that we will be able to do so.

The BLM has worked with interested parties to develop a proposed action and alternatives consistent with the following criteria:

• The proposed project submitted by ConocoPhillips Alaska, Inc.;

• Issues identified during public scoping, impacts and potential alternatives to be addressed; and

• Subsistence resources and users, as well as potential actions to minimize adverse impacts to subsistence in accordance with section 810 of the Alaska National Interest Lands Conservation Act (ANILCA).

Section 810 of ANILCA requires the BLM to evaluate the effects of the alternatives presented in the Willow MDP Draft EIS on subsistence activities, and to hold public hearings if it finds that any alternatives may significantly restrict subsistence users. The preliminary evaluation of subsistence impact indicates that the alternatives analyzed in the Willow MDP Draft EIS and the associated cumulative impacts may significantly restrict subsistence uses for the community of Nuiqsut. Therefore, the BLM will hold a public hearing on subsistence resources and activities in Nuiqsut, Alaska.

Authority: 40 CFR 1506.6(b).

Chad B. Padgett,
State Director, Alaska.

[FR Doc. 2019-18839 Filed 8-29-19; 8:45 am]

BILLING CODE 4310-JA-P